DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favour of relief.

Association of American Railroads

[Docket Number FRA-2005-21613]

The Association of American Railroads (AAR), on behalf of itself and its member railroads, seeks a permanent waiver of compliance from certain provisions of the Railroad Locomotive Safety Standards, 49 CFR part 229. Specifically, the AAR requests relief from the requirements of 49 CFR 229.27(a)(2) Annual Tests and 49 CFR 229.29(a) Biennial Tests, as solely applicable to all present and future installations of the New York Air Brake Corporation (NYAB) and Wabtec Corporation electronic brake systems. AAR is requesting this waiver with the intent to move to a “performance-based criterion,” with air brake components repaired or replaced as required. AAR makes this request based on their belief that electronic brake systems are inherently more reliable than their predecessors, along with the system's utilization of diagnostic tools which continuously monitor the function of critical components. AAR proposes a test program be permitted, similar to the CSX Transportation (CSXT) waiver test program, under which the performance of locomotive electric brake systems would be monitored.

On September 1, 2000, FRA granted CSXT a conditional waiver (FRA-1999-6252) from the annual and biennial test requirements for NYAB's Computer Controlled Brake (CCB) systems installed on CSXT locomotives, with a requirement that a Joint CSX/CCB Committee be established to monitor and approve all testing parameters and test functions. The committee is comprised of individuals from rail labor, railroad management, manufacturers, suppliers, and the FRA. The committee meets 2 to 4 times a year to perform functional tests and tear-down inspections on locomoitves that have operated for specific periods of time without any air brake components being replaced. In AAR's written request for this waiver, they make a general statement that the CCB brake system has successfully operated for over eight years and that the CSXT test program has shown that the existing requirements for tests every five years is too restrictive.

The facts relative to waiver FRA-1999-6252 are as follows: The CSXT test program has only evaluated and approved one brake system at the 8½ year time period, the NYAB-CCB I brake system equipped on GE locomotives with air dryers. The Committee has determined that 8½ years is the limit for all of the brake components for that system, except the 20 Block, which is limited to 6½ years. Time intervals for the CCB I system on EMD locomotives, and CCB II systems on both GE and EMD locomotives have yet to be determined, as the committee continues the evaluation process. All CSXT locomotives are equipped with functioning air dryers.

Under AAR's proposal, categories would be established for each combination of locomotive manufacturer and brake types, with and without air dryers, for testing and evaluation purposes. AAR has allocated the responsibility for testing the different categories of brake systems among six of its member railroads, the Union Pacific, BNSF, the Canadian Pacific, CSXT, the Canadian National, and Norfolk Southern. These six railroads have agreed to conduct testing similar to the same conditions imposed on the CSXT waiver.

AAR assumes that as each category of brake system/locomotive reaches a certain time period, that all locomotives in the same category belonging to AAR's members would be permitted to operate to that same time period without having to perform any of the 229.27(a)(2) and 229.29(a) inspections and tests. Furthermore, with the CSXT test program already underway, AAR would like to have all of its member railroads afforded the same time intervals that have been established for the CSXT locomotives, for locomotives in the same categories as the CSXT locomotives. For example, all GE locomotives with air dryers that are operated by AAR members and are equipped with NYAB's CCB I brake systems, would be permitted to operate for 8½ years before 229.27(a)(2) and 229.29(a) attention is required.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2005-21613 ) and must be submitted in triplicate to the Docket Clerk, DOT Central Docket Management Facility, Room Pl-401, Washington, DC 20590-0001. Communications received within 45 days of the date of this notice will be considered by FRA before final action is taken. Comments received after that date will be considered as far as practicable. All written communications concerning these proceedings are available for examination during regular business hours (9 a.m.-5 p.m.) at DOT Central Docket Management Facility, Room Pl-401 (Plaza Level), 400 Seventh Street SW., Washington. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19377-78). The statement may also be found at http://dms.dot.gov.

Issued in Washington, DC on August 8, 2005.
Grady C. Cothen, Jr.,
Deputy Associate Administrator for Safety Standards and Program Development.

[FR Doc. 05-15951 Filed 8-10-05; 8:45 am]

BILLING CODE 4910-06-P